NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for Office of International Science and Engineering—PIRE: Bio-inspired Materials and Systems (10749)—Site Visit.

Date and Time: March 19, 2020, 8:00 a.m.-9:30 p.m.; March 20, 2020, 8:30 a.m.-2:30 p.m.

Place: University of Delaware, Clayton Hall, 210 S College Avenue, Newark, DE 19716.

Type of Meeting: Part-open.

Contact Person: Maija Kukla, PIRE Program Manager, National Science Foundation, 2415 Eisenhower Avenue, Alexandria, VA 22314; Telephone 703/292-7250.

Purpose of Meeting: NSF site visit to conduct a review during year 3 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C. 552b(c), (4) and (6) of the Government in the Sunshine Act.

Dated: February 27, 2020.
Crystal Robinson,
Committee Management Officer.

National Science Foundation, 2415 Eisenhower Avenue, Alexandria, VA 22314

Partnerships for International Research and Education (PIRE)

Site Visit Agenda, University of Delaware, DE

Thursday, March 19, 2020

8:00 a.m. Travel to the Site Review Location

Breakfast, Coffee/light refreshments

Panel Orientation—(Closed)

PIRE Rationale and Goals

Charge to Panel

8:45 a.m. Welcome and Introductions—L. Korley

PIRE Overview and Goals—L. Korley

International Partnership—C. Weder, University of Fribourg-AMI

Project Management—L. Korley, S. Rowan

10:15 a.m. NSF Executive Session—(Closed)

Break

10:30 a.m. Research Thrusts—L. Korley; J. Capadona; G. Wnek; J. Pokorski; R. Quinn

12:00 p.m. NSF Executive Session—(Closed)

12:30 p.m. Lunch—Discussion with Students—(Closed)

Poster Session

2:00 p.m. Lab Tours—ISE Lab—M. Hore/PIRE students

3:00 p.m. Integrating Research, Education, and Outreach across the PIRE—G. Wnek

Evaluation & Assessment—Research and Education Bureau—Kent State University

Dissemination and Leveraging of PIRE activities—J. Pokorski

Next Steps toward Achieving Project Goals—L. Korley; C. Weder; S. Rowan; J. Pokorski

4:30 p.m. Institutional Support—Meeting with Administrators

5:00 p.m. NSF Executive Session—(Closed)

6:00 p.m. Critical Feedback to the PIRE PI/Project Team—(Closed)

6:30 p.m.—9:30 p.m. NSF Executive Session/Working Dinner—(Closed)

Friday, March 20, 2020

8:30 a.m. Travel to Site Visit Location

Breakfast

9:00 a.m. The PI and Team's Response to Critical Feedback (Closed)

10:00 a.m. Site Review Team Prepares Site Visit Report (Closed)

Working Lunch Provided

2:30 p.m. Presentation of Site Visit Report to Principal Investigator (Closed)

[FR Doc. 2020-04337 Filed 3-2-20; 8:45 am]

BILLING CODE 7555-01-P